ENVIRONMENTAL PROTECTION AGENCY

40 CFR Part 705

[EPA-HQ-OPPT-2020-0549; FRL-7902.2-01-OCSPP]

RIN 2070-AL30

Perfluoroalkyl and Polyfluoroalkyl Substances (PFAS) Data Reporting and Recordkeeping Under the Toxic Substances Control Act (TSCA); Change to Submission Period

AGENCY: Environmental Protection Agency (EPA).

ACTION: Interim final rule; request for comment.

SUMMARY: The Environmental Protection Agency (EPA or Agency) is amending the data submission period for the Toxic Substances Control Act (TSCA) PFAS reporting rule by changing the start date for submissions and making corresponding changes to the end dates for the submission period, i.e., the data submission period begins on April 13, 2026, and ends on October 13, 2026, with an alternate end date for small manufacturers reporting exclusively as article importers of April 13, 2027. As promulgated in October 2023, the regulation requires manufacturers (including importers) of perfluoroalkyl and polyfluoroalkyl substances (PFAS) in any year between 2011-2022 to report certain data to EPA related to exposure and environmental and health effects. This change is necessary because EPA requires more time to prepare the reporting application to collect this data. The Agency is separately considering reopening certain aspects of the rule to public comment. The delayed reporting date ensures that EPA has adequate time to consider the public comments and propose and finalize any modifications to the rule before the submission period begins.

DATES: This interim final rule is effective on May 13, 2025. Comments must be received on or before June 12, 2025.

ADDRESSES: Submit your comments, identified by docket identification (ID) number EPA-HQ-OPPT-2020-0549, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information: David Turk, Data Gathering, Management, and Policy Division (7406M), Office of Pollution Prevention and Toxics, Environmental Protection Agency, 1200 Pennsylvania Ave. NW, Washington, DC 20460-0001; telephone number: 202-566-1527; email address: turk.david@epa.gov.

For general information: The TSCA-Hotline, ABVI-Goodwill, 422 South Clinton Ave., Rochester, NY 14620; telephone number: (202) 554-1404; email address: TSCA-Hotline@epa.gov.

SUPPLEMENTARY INFORMATION:

I. Executive Summary

A. Does this action apply to me?

This action may apply to you if you have manufactured (defined by statute at 15 U.S.C. 2602(9) to include import) PFAS for a commercial purpose at any time since January 1, 2011. The following list of North American Industrial Classification System (NAICS) codes is not intended to be exhaustive but rather provides a guide to help readers determine whether this document applies to them. Potentially affected entities may include:

• Construction (NAICS code 23);

• Manufacturing (NAICS codes 31 through 33);

• Wholesale trade (NAICS code 42);

• Retail trade (NAICS codes 44 through 45); and

• Waste management and remediation services (NAICS code 562).

This list details the types of entities that EPA is aware could potentially be impacted by this action. Other types of entities not listed could also be impacted. To determine whether your entity is impacted by this action, you should carefully examine the applicability criteria found in 40 CFR 705.10 and 705.12. If you have questions regarding the applicability of this action to a particular entity, consult the person listed in the FOR FURTHER INFORMATION CONTACT section.

B. What action is the Agency taking?

EPA is amending the data submission period for the TSCA section 8(a)(7) PFAS reporting rule codified in 40 CFR part 705 by changing the start date to April 13, 2026, and making corresponding changes to the end dates for the submission period. As modified by this rule, the data submission period begins on April 13, 2026, and ends on October 13, 2026, with an alternate end date for small manufacturers reporting exclusively as article importers of April 13, 2027. The Agency is taking this action in response to constraints on the timely development and testing of the software being developed to collect information pursuant to this reporting rule (i.e., the rule's reporting application). Further, the Agency may, in a future separate action, reopen other aspects of this rule for public comment in light of Executive Order 14219: Unleashing Prosperity through Deregulations (90 FR 9065, January 31, 2025). In this action, however, EPA is not reopening or reconsidering any provisions of the underlying reporting rule other than the submission period dates.

Although EPA continues to devote significant resources to the development of the reporting application, EPA will not be in a position to verify that the data will be submitted and stored in a usable manner on the current start date of July 11, 2025. At this point in the project development timeline, EPA does not have time to conduct industry beta testing of the application and incorporate any tester feedback prior to the start of the submission period. Without a period of industry beta testing as previously planned, the current reporting timeline is no longer tenable, and maintaining that timeline would require entities to submit data before EPA has sufficiently verified that the technological capacity is in place to accept that data. This would negatively impact EPA's ability to collect, organize, and make the collected data available to the public, which is the underlying objective of the regulation as well as the Congressional direction that required its promulgation.

Though EPA notes that it may reopen portions of the rule to comment regarding potential modifications, this action does not alter any aspect of the TSCA section 8(a)(7) PFAS rule in 40 CFR part 705 except for the data submission period dates. Accordingly, comments regarding topics other than the commencement of the reporting period are outside the scope of this action. This action provides additional time for the Agency's reporting application to be completed and sufficiently tested to ensure that reporting entities do not experience technical issues that prevent or complicate successful submission of data as required under TSCA section 8(a)(7) during the regulatory submission period. Further, without modifying the reporting period, EPA would need to continue to develop and test the application while reporting is occurring, which could negatively impact submissions in progress or other functions of the reporting application.

The Agency further anticipates being able to review submitted data, including CBI claims, and prepare non-CBI data for broader dissemination more efficiently if the Agency is able to establish the full data collection infrastructure prior to the start of the submission period. Further, this action is consistent with the public interest because it is designed to facilitate compliance with the rule. Any impact on the regulated community is expected to be beneficial given that the extension provides additional time to submit reports to EPA and minimize potential for technical issues.

C. What is the Agency's authority for taking this action?

As with the final rule that published in the Federal Register of October 11, 2023 (88 FR 70516 (FRL-7902-02-OCSPP)) and September 5, 2024 (89 FR 72336 (FRL-7902.1-02-OCSPP)), EPA is promulgating this rule pursuant to its authority in TSCA section 8(a)(7) (15 U.S.C. 2607(a)(7)). The National Defense Authorization Act for Fiscal Year 2020 (NDAA) (Pub. L. 116-92, section 7351) amended TSCA section 8(a) in December 2019, adding TSCA section 8(a)(7), titled “PFAS Data.” TSCA section 8(a)(7) requires EPA to promulgate a rule “requiring each person who has manufactured a chemical substance that is a perfluoroalkyl or polyfluoroalkyl substance in any year since January 1, 2011” to report information described in TSCA section 8(a)(2)(A) through (G). This includes a broad range of information, such as information related to chemical identity and structure, production, use, byproducts, exposure, disposal, and health and environmental effects.

In addition, under section 553(b)(B) of the Administrative Procedure Act (APA) (5 U.S.C. 553(b)(B)), “an agency may issue a final rule without providing notice and an opportunity for public comment if it for good cause finds that notice and public procedures are impracticable, unnecessary, or contrary to the public interest.”

D. Why is the Agency using an interim final rule?

EPA finds that notice and public comment is impracticable because there is insufficient time for notice and comment on an extension to the deadline prior to the reporting deadline of July 11, 2025. EPA recently became aware of the need for the extension after EPA was unable to conduct industry beta testing of the Central Data Exchange (CDX) application as originally planned. Moving the start of the submission period will provide more time for EPA to conduct necessary beta testing of the reporting application, which the Agency was unable to do as previously scheduled. This beta testing period will provide critical feedback to the Agency on the application and database infrastructure, including on any appropriate guidance that can be provided to the reporting community. Further, Congress recently appropriated additional funds to EPA in the FY2025 Continuing Resolution for the purposes of improving EPA's information technology infrastructure for the TSCA program. With additional time to receive and distribute those funds provided by the nine-month extension in this rule, EPA may be able to improve functionality of the reporting application and databases.

The Agency finds that notice and public comment would be contrary to the public interest. If notice and comment time frames prevent the Agency from delaying the start of the reporting deadline prior to July 11, 2025, submitters would be confronted with using a CDX application that has not yet undergone rigorous beta testing. Thus, any data submissions might be provided without sufficient resources to ensure secure certification and accuracy and ultimately impair the ability of the Agency to carry out its obligations under TSCA and enable public access to the information, as appropriate. It is in the interest of both the public and industry to delay the start of the reporting period April 13, 2026, to allow EPA time necessary to confirm that the infrastructure underlying the data collection process is working optimally.

In conclusion, for the reasons enumerated above, EPA is promulgating this interim final rule without a general notice of proposed rulemaking pursuant to 5 U.S.C. 553(b)(3)(B) because the Agency finds good cause that notice and public comment procedures are impracticable and contrary to the public interest. In addition, EPA also intends to issue a separate notice of proposed rulemaking in the near future that will, among other things, allow for further comment on the appropriate reporting period. EPA intends to address comments in response to this final rule and the notice of proposed rulemaking concurrently and to publish a final rule.

This final rule is effective immediately upon publication. Section 553(d)(1) of the Administrative Procedure Act, (5 U.S.C. 553(d)(1)), provides that final rules shall not become effective until 30 days after publication in the Federal Register, with an exception for “a substantive rule which grants or recognizes an exemption or relieves a restriction.” This rule relieves a restriction by extending the reporting deadline by nine months. This extension also provides the Agency an opportunity to reconsider and, if applicable, propose a separate action to modify any aspects of the TSCA section 8(a)(7) reporting rule through standard notice and comment rulemaking procedures.

II. Background

A. What is the modification to the submission period?

Nearly all TSCA regulatory submissions are required to be submitted through EPA's Central Data Exchange (CDX). CDX provides EPA's interface with data submitters and fulfills all legal requirements for electronic submittals as set out by the Cross-Media Electronic Reporting Rule (CROMERR) (40 CFR part 3).

When EPA uses CDX to collect information, the Agency must also develop a corresponding application in its TSCA CBI environment, which is used to manage the final validation and processing of submitted content. Each submission to CDX is transmitted into the appropriate TSCA CBI application for further processing, storage, and use. Functional CDX and CBI applications are necessary for a regulated entity to fully and legally submit the required information to EPA and demonstrate compliance with the regulation under which the information was submitted.

Under the NDAA, EPA was directed to promulgate a final rule that published on October 11, 2023 (88 FR 70516 (FRL-7902-02-OCSPP)). The information required to be collected under TSCA section 8(a)(7) is critical to advancing the Agency's understanding of PFAS in commerce and will create a database of information on previously manufactured PFAS in commerce to support EPA's actions to address PFAS exposure and contamination.

Resource constraints, alongside additional priorities, impacted the Agency's ability to collect data for the TSCA section 8(a)(7) requirement during the reporting period that had been anticipated when the Agency promulgated the rule. As explained in a September 5, 2024, Federal Register notice, resource constraints forced the agency to move the reporting period once (89 FR 72336, September 5, 2024) (FRL-7902.1-02-OCSPP)), delaying the commencement of the reporting period from November 12, 2024, to July 11, 2025. The Agency previously extended the reporting period (89 FR 72336 (September 5, 2024) (FRL-7902.1-02-OCSPP)) due to resource and funding constraints for the CDX application support.

Similarly, as explained in this notice, the Agency must again delay the data submission period because of EPA must extend the time provided for project development and testing. As modified by this rule, the data submission period begins on April 13, 2026, and ends on October 13, 2026, with an alternate end date of April 13, 2027, for small manufacturers reporting exclusively as article importers. As codified, this includes a start and end date for submissions, including an alternate end date for small entities.

B. Why is the Agency modifying the data submission period?

EPA has considered the costs of compliance with the reporting requirements using a potentially inadequate IT system against the costs to the public associated with a reporting delay. EPA has determined that the costs of compliance with an under-tested IT system outweigh the costs to the public associated with a delay in reported data, as EPA would not be able to provide public access of such data in the face of uncertainty over its integrity.

EPA typically conducts testing prior to making a new reporting application available. Recognizing that users have been having difficulties with other TSCA reporting applications (e.g., the application for Chemical Data Reporting (CDR)), the Agency believes it is critical to ensure that the TSCA section 8(a)(7) PFAS reporting application is adequately tested before reporting under this rule begins. Relatedly, EPA has committed to providing interested industry stakeholders an opportunity to help test the application to ensure that it could collect the data as intended. The current timelines for the submission of data under the rule would not allow this testing to be completed before the reporting period commences.

To ensure functioning reporting capability, EPA must extend the time provided for project development and testing. The reporting tool will be available beginning April 13, 2026. EPA is not altering the length of time provided for reporters to submit data. Delaying the commencement of the reporting period to April 13, 2026, will ensure that the project team has adequate time to complete development and testing of the reporting tool, along with incorporation of any findings from testing participants. Thus, EPA is delaying the commencement of the reporting period to that date. Reporters will still have the same amount of time to submit data as was provided in the original rule (see 40 CFR part 705). EPA is not amending any other aspects of the regulation at this time.

III. Statutory and Executive Orders Reviews

Additional information about these statutes and Executive orders can be found at https://www.epa.gov/laws-regulations-and-executive-orders.

A. Executive Order 12866: Regulatory Planning and Review

This action is not a significant regulatory action and was therefore not submitted to the Office of Management and Budget (OMB) for review under Executive Order 12866 (58 FR 51735, October 4, 1993).

B. Executive Order 14192: Unleashing Prosperity Through Deregulation

This action is considered an Executive Order 14192 deregulatory action. This interim final rule provides burden reduction by relieving immediate pressure on manufacturers for rule familiarization, data collection and preparation, and electronic reporting. This longer timeframe will also reduce the opportunity costs on affected firms.

C. Paperwork Reduction Act (PRA)

This action does not contain an information collection burden under the PRA, 44 U.S.C. 3501 et seq. OMB has previously approved the information collection activities contained in the existing regulations and has assigned OMB control number 2070-0217 (EPA ICR No. 2682.02). This action does not create any new reporting or recordkeeping obligations and does not otherwise change the burden estimates that were approved.

D. Regulatory Flexibility Act (RFA)

This action is not subject to the RFA, 5 U.S.C. 601 et seq. The RFA applies only to rules subject to notice and comment rulemaking requirements under the APA, 5 U.S.C. 553, or any other statute. This rule is not subject to notice and comment requirements under the APA because the Agency has invoked the APA “good cause” exemption (see Unit I.).

E. Unfunded Mandates Reform Act (UMRA)

This action does not contain an unfunded mandate of $100 million (in 1995 dollars and adjusted annually for inflation) or more as described in UMRA, 2. U.S.C. 1531-1538, and does not significantly or uniquely affect small governments. The action imposes no enforceable duty on any state, local or tribal governments or the private sector.

F. Executive Order 13132: Federalism

This action does not have federalism implications as specified in Executive Order 13132 (64 FR 43255, August 10, 1999), because it will not have substantial direct effects on the states, on the relationship between the National Government and the states, or on the distribution of power and responsibilities among the various levels of government.

G. Executive Order 13175: Consultation and Coordination With Indian Tribal Governments

This action does not have tribal implications as specified in Executive Order 13175 (65 FR 67249, November 9, 2000), because it will not have substantial direct effects on tribal governments, on the relationship between the Federal Government and the Indian tribes, or on the distribution of power and responsibilities between the Federal Government and Indian tribes. This action does not impose substantial direct compliance costs on federally recognized Indian tribal governments. Thus, Executive Order 13175 does not apply to this action.

H. Executive Order 13045: Protection of Children From Environmental Health Risks and Safety Risks

This action is not subject to Executive Order 13045 (62 FR 19885, April 23, 1997), because it does not concern an environmental health or safety risk. Since this action does not concern human health, EPA's Policy on Children's Health also does not apply.

I. Executive Order 13211: Actions Concerning Regulations That Significantly Affect Energy Supply, Distribution or Use

This action is not a “significant energy action” as defined in Executive Order 13211 (66 FR 28355, May 22, 2001), because it is not likely to have any adverse effect on the supply, distribution or use of energy.

J. National Technology Transfer and Advancement Act (NTTAA)

This action does not involve technical standards under the NTTAA section 12(d), 15 U.S.C. 272.

K. Congressional Review Act (CRA)

This action is subject to the CRA, 5 U.S.C. 801 et seq., and EPA will submit a rule report to each House of the Congress and to the Comptroller General of the United States. This action is not a “major rule” as defined by 5 U.S.C. 804(2).

List of Subjects in 40 CFR Part 705

Chemicals, Environmental protection, Reporting and recordkeeping requirements.

Dated: May 5, 2025.
Nancy B. Beck,
Principal Deputy Assistant Administrator, Office of Chemical Safety and Pollution Prevention.

For the reasons set forth in the preamble, 40 CFR part 705 is amended as follows:

PART 705—REPORTING AND RECORDKEEPING REQUIREMENTS FOR CERTAIN PER- AND POLYFLUOROALKYL SUBSTANCES.

1. The authority for part 705 continues to read as follows

Authority: 42 U.S.C. 2607(a)(7).

2. Revise § 705.20 to read as follows:

§ 705.20 When to report.

(a) All information reported to EPA in response to the requirements of this part must be submitted during the applicable submission period. For all reporters submitting information pursuant to §§ 705.15 and 705.18(b) (research and development), the submission period shall begin on April 13, 2026, and last for six months: April 13, 2026, through October 13, 2026.

(b) For any reporter who is reporting under this part exclusively pursuant to § 705.18(a) (article importers), and is also considered a small manufacturer under the definition at 40 CFR 704.3, the submission period shall begin on April 13, 2026, and last for 12 months: April 13, 2026, through April 13, 2027.

[FR Doc. 2025-08168 Filed 5-12-25; 8:45 am]

BILLING CODE 6560-50-P